DEPARTMENT OF DEFENSE

Department of the Army

Performance Review Boards Membership

AGENCY: Department of the Army, DoD.

ACTION: Notice.

SUMMARY: Notice is given of the names of members of a Performance Review Board for the Department of the Army.

EFFECTIVE DATES: August 14, 2001.

FOR FURTHER INFORMATION CONTACT: David Stokes, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Office of the Chief of Staff, Army are:

1. Lt. Gen Russell Davis, Chief, National Guard Bureau

2. MG Raymond Rees, Vice Chief, National Guard Bureau

3. Ms. Maureen Lischke, NGB Chief, Information Officer, National Guard Bureau

4. Mr. Chris Gardner, Director, NGB Joint Staff, National Guard Bureau

5. Mr. Mark J. O'Konski, Executive Director, USA Logistics Intergration Agency, Office, Deputy Chief of Staff for Logistics

6. Mr. Wimpy D. Pybus, Director for Aviation and Munitions, Office, Deputy Chief of Staff for Logistics

7. Mr. William P. Neal, Assistant Director for Force Projection and Distribution, Office, Deputy Chief of Staff for Logistics

8. Ms. Donna L. Shands, Associate Director for Sustainment, Office, Deputy Chief of Staff for Logistics

9. Mr. Joe R. Billman, Director for Program Development, Office, Deputy Chief of Staff for Logistics

10. BG Jeannette K. Edmunds, Director for Sustainment, Office, Deputy Chief of Staff for Logistics

11. BG Jerome Johnson, Director for Plans, Operations and Logistics Automation, Office, Deputy Chief of Staff for Logistics

12. BG Donald D. Parker, Director for Force Projection and Distribution, Office, Deputy Chief of Staff for Logistics

13. Ms. Jean Bennett, Director of Intelligence Programs, Plans, and Studies, Office, Deputy Chief of Staff for Intelligence

14. Mr. Terrance Ford, Assistant Deputy Chief of Staff for Intelligence, Office, Deputy Chief of Staff for Intelligence

15. Mr. Thomas Dillon, Director, Foreign Disclosure, Office, Deputy Chief of Staff for Intelligence

16. LTG Robert W. Noonan, Jr., Deputy Chief of Staff for Intelligence, Office, Deputy Chief of Staff for Intelligence

17. MG Robert A. Harding, Assistant Deputy Chief of Staff for Intelligence, Office, Deputy Chief of Staff for Intelligence

18. BG Nicholas P. Grant, Special Assistant to the Deputy Chief of Staff for Intelligence, Office, Deputy Chief of Staff for Intelligence

19. Mr. Vernon M. Bettencourt, Technical Advisor to the DCSOPS, Deputy Chief of Staff for Operations

20. Mr. Wendell H. Lunceford, Jr., Director, Army Models Simulation Office (AMSO), Deputy Chief of Staff for Operations

21. LTG Larry R. Ellis, Deputy Chief of Staff for Operations, Office, Deputy Chief of Staff for Operations

22. MG Phillip R. Kensinger, Jr., Assistant Deputy Chief of Staff for Operations, Office, Deputy Chief of Staff for Operations

23. BG Robert W. Chestnut, Assistant Deputy Chief of Staff for Operations for Mobilization/IMA, Office, Deputy Chief of Staff for Operations

24. BG Raymond T. Odierno, Director, Force Management, Office, Deputy Chief of Staff for Operations

25. MG Michael D. Maples, Director, Operations Readiness and Mobilization, Office, Deputy Chief of Staff for Operations

26. BG Clyde A. Vaughn, Deputy Director, Operations Readiness and Mobilization, Office, Deputy Chief of Staff for Operations

27. MG John R. Wood, Director, Strategy, Plans and Policy, Office, Deputy Chief of Staff for Operations

28. BG Karl W. Eikenberry, Deputy Director, Strategy, Plans and Policy, Office, Deputy Chief of Staff for Operations

29. BG William G. Webster, Director, Training, Office, Deputy Chief of Staff for Operations

30. BG(P) Gene M. LaCoste, Assistant Deputy Chief of Staff for Personnel, Office, Deputy Chief of Staff for Personnel

31. Mr. John W. Matthews, Director, Army Records Management and Declassification Agency, Office, Deputy Chief of Staff for Personnel

32. Dr. Edgar Johnson, Director, Army Research Institute

33. Dr. Zita Simutis, Technical Director, Army Research Institute

34. MG Lawrence R. Adair, Commander, U.S. Total Army Personnel Command

35. BG William P. Heilman, Director, Well-Being, Office, Deputy Chief of Staff for Personnel

36. BG Katherine G. Frost, Adjutant General, U.S. Total Army Personnel Command

37. BG Elbert N. Perkins, Director, Military Personnel Management, Office, Deputy Chief of Staff for Personnel

38. BG Dorian T. Anderson, Director, Officer Personnel Management, U.S. Total Army Personnel Command

39. BG Harry B. Axson, Director, Military Personnel Management, Office, Deputy Chief of Staff for Personnel

40. Dr. Craig E. College, Assistant Deputy Chief of Staff for Programs, Office, Deputy Chief of Staff for Programs

41. BG Craig A. Peterson, Director of Integration, Office, Deputy Chief of Staff for Programs

42. MG A.J. Madora, Director, Program Analysis & Evaluation, Office, Deputy Chief of Staff for Programs

43. Mr. Donald E. Tison, Deputy Director, Program Analysis & Evaluation, Office, Deputy Chief of Staff for Programs

44. Edgar B. Vandiver III, Director, U.S. Army Center for Army Analysis

45. Daniel J. Shedlowski, Technical Director, U.S. Army Center for Army Analysis

46. Robert N. Kittel, Special Assistant for Communications & Transportation, Office, The Judge Adjutant General

47. Janet C. Menig, Deputy Assistant Chief of Staff for Installation Management, Office, Assistant Chief of Staff for Installation Management

48. Jeffrey J. Clarke, Chief Historian, Center of Military History

49. Barr, Brian, Technical Director, Army Test & Evaluation Command

50. Brown C. David, Director for Technical Mission (APG, MD), Army Test & Evaluation Command

51. Orlicki, George A. Technical Director/Chief Scientist (White Sands, NM), Army Test & Evaluation Command

52. Pasini, Harold C., Jr., Technical Director, Test & Experimentation Command, Army Test & Evaluation Command

53. Simmons, Brian M., Deputy to Cmdr/Technical Director (APG, MD), Army Test & Evaluation Command

54. Streilein, James J., Director, Army Evaluation Center, Army Test & Evaluation Command

John A. Hall,
Alternate Army Federal Register Liaison Officer.

[FR Doc. 01-20758 Filed 8-16-01; 8:45 am]

BILLING CODE 3710-08-M